DEPARTMENT OF ENERGY

Federal Energy Regulatory Commission

[Project No. 12704-004]

Tidewalker Associates; Notice of Preliminary Permit Application Accepted For Filing and Soliciting Comments, Motions To Intervene, and Competing Applications

May 17, 2010.

On April 12, 2010, Tidewalker Associates filed a successive preliminary permit application, pursuant to section 4(f) of the Federal Power Act (FPA), proposing to study the feasibility of the Half-Moon Cove Tidal Power Project, to be located in Cobscook and Passamaquoddy Bay, Washington County, Maine.

The proposed project would consist of: (1) A new 1,200-foot-long rock-filled barrage with a crest elevation of approximately 27 feet above mean sea level (msl); (2) a new 30-foot-wide, 15-foot-high filling and emptying gated section; (3) the 850-acre Half-Moon Cove with a surface elevation of 13.0 feet above msl; (4) a new powerhouse with four turbine generating units with a total capacity of 9.0 megawatts; and (5) a new 34.5 kilovolt, 7.1-mile-long transmission line. The project would produce an estimated average annual generation of about 45,000 megawatt-hours.

Applicant Contact: Normand Laberge, Tidewalker Associates, 46 Place Cove Road, Trescott, Maine 04652, 207-733-5513.

FERC Contact: Tom Dean, 202-502-6041.

Deadline for filing comments, motions to intervene, competing applications (without notices of intent), or notices of intent to file competing applications: 60 days from the issuance of this notice. Comments, motions to intervene, notices of intent, competing applications may be filed electronically via the Internet. See 18 CFR 385.2001(a)(1)(iii) and the instructions on the Commission's Web site under “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp. Enter the docket number (P-12704) in the docket number field to access the document. For assistance, call toll-free 1-866-208-3372.

Kimberly D. Bose,
Secretary.

[FR Doc. 2010-12242 Filed 5-20-10; 8:45 am]

BILLING CODE 6717-01-P